ENVIRONMENTAL PROTECTION AGENCY

[ER-FRL-6618-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L65378-ID Rating EC2, Clean Slate Ecosystem Management Project, Aquatic and Terrestrial Restoration, Nez Perce National Forest, Salmon River Ranger District, Idaho County, ID.

Summary: EPA expressed concerns regarding purpose and need, alternatives, environmental monitoring, cumulative impacts, prescribed burning, and Clean Water Act TMDL protocols. EPA has requested inclusion of a more easy to follow statement of overriding purpose and need; the addition of a no-grazing alternative that includes active habitat restoration; the addition of specific and enforceable standards; thresholds and responsible parties for environmental monitoring; additional detail on implementation and contingencies for the prescribed burning program; additional analysis of cumulative impacts, and more detail on the process to be used for addressing TMDL protocols.

ERP No. D-BLM-G65078-NM Rating LO, San Felipe Pueblo Land Exchange, Involves Exchanges Federal Lands to Private Lands, Acquisition, Sandoval and Santa Fe Cos. NM.

Summary: EPA has no objection to the proposed plan of action.

ERP No. D-BLM-K65330-CA Rating LO, Northern and Eastern Colorado Desert Plan (Plan), Implementation, Comprehensive Framework for Managing Species and Habitats (BLM), Joshua Tree National Park (JTNP) and Chocolate Mountains Aerial Gunnery Range, California Desert, Riverside, Imperial and San Bernardino Counties, CA.

Summary: EPA has no objections to the proposed plan.

ERP No. D-FHW-F40393-MI Rating EC2, I-96/Airport Area Access Study, Transportation Improvements, Surrounding the Gerald R. Ford International Airport, Kent County, MI.

Summary: EPA expressed concerns regarding wetlands, woodlands and water quality impacts to Thornapple River, Martin and Beck Drain and Little Plaster Creek.

ERP No. D-FHW-F40394-MI Rating EO2, I-94/Rehabilitation Project, Transportation Improvements to a 6.7 mile portion of I-94 from east I-96 west end to Conner Avenue on the east end, Funding and NPDES Permit, City of Detroit, Wayne County, MI.

Summary: EPA expressed environmental objections because of issues in the following areas: scope of analysis, purpose and need, alternatives analysis, air quality, noise, pedestrian and bicyclist impacts, costs, and cumulative impacts.

ERP No. D-FHW-G40160-OK Rating LO, I-40 Crosstown Expressway Transportation Improvements, From I-235/I-35 Interchange West to Meridan Avenue, Funding, Oklahoma City, OK.

Summary: EPA has no objection to the selection of the preferred alternative. EPA however asks that additional information on cultural resource mitigation, SHPO coordination, and hazardous waste site baseline data be incorporated in the FEIS to strengthen the document.

ERP No. D-FRC-E08021-00 Rating EC2, Florida Gas Transmission (FGT) Phase V Expansion Project, FGT Natural Gas Pipeline and Associated Above Ground Facilities, Construction and Operation, Approvals and Permit Issuance, several counties of FL, AL and MS.

Summary: EPA has environmental concerns about the proposed project. In particular, air quality, wetlands impact, water quality, noise, endangered species and Environmental Justice issues warrant further discussion as the project progresses.

ERP No. D-NOA-L91012-WA Rating EO2, Anadromous Fish Agreements and Habitat Conservation Plans for the Welss, Rocky Reach, and Rock Island Hydroelectric Projects, Implementation, Incidental Take Permits, Chelan and Douglas Counties, WA.

Summary: EPA objects to selection of Alternative 3 as the preferred alternative. The proposed framework for the HCPs fails to demonstrate that salmon and fish species of concern would be protected and restored during the next 50 years. Specific problems with the framework and accompanying analyses include Columbia River bull trout not being included in the HCP or extensively analyzed, development of biological information being deferred until the writing of the Biological Opinion, a lack of monitoring methodology, and inadequate water quality information. EPA recommends that NMFS invite USF&WS to become a cooperating agency to accommodate inclusion of Columbia River bull trout in the context of the HCP and that it address concerns about inadequate information and analyses described above.

ERP No. D-NRS-D28013-WV Rating EC2, Upper Tygart Valley River Watershed Plan, Water Supply Project, Approval and Funding, Randolph and Pocahontas Counties, WV.

Summary: EPA expressed environmental concerns regarding loss of native trout habitat and wetlands and suggested that more information be provided on stream and wetland mitigation.

ERP No. DA-FHW-F40347-IL Rating EO2, FAP Route 340 (I-355 South Extension), Interstate Route 55 to Interstate Route 80, Additional Information for the Tollroad/Freeway Alternative, Funding, US Coast Guard Permit and COE Section 404 Permit, Cook, DuPage and Will Counties, IL.

Summary: EPA raised objections to the selection of alternatives. EPA's objections would be resolved if an additional Supplemental EIS were to be issued with a full environmental impact assessment of the Lemont Bypass Alternative. Our Section 404 objections would be resolved if sufficient wetlands impacts information on the Lemont Bypass Alternative is submitted to permit a finding of compliance with the Section 404(b)(1) Guidelines.

Final EISs

ERP No. F-COE-K36107-CABolsa Chica Project, Construction/Road Construction, Restoration and Flood Control Improvement, Section 10/404 Permits and Land Use Plan, City of Huntington Beach, Orange County, CA.

Summary: No formal comment letter was sent to the preparing agency.

ERP No. F-FHW-E40739-NCUS 17 New Bern Bypass Construction, Jones-Craven County Line to NC-1438 near Vanceboro, Funding, Section 404 and U.S. Coast Guard Bridge Permit, Craven County, NC.

Summary: EPA's review indicates that all earlier concerns have been addressed satisfactorily. Adverse community, cultural and natural environmental resource impacts have been minimized substantially. The 4-lane highway improvement project on new alignment includes commitments for good mitigation of identified wetlands losses, stormwater runoff control, and habitat impacts.

ERP No. F-IBR-K39049-CACoachella Canal Lining Water Project, Revised and Updated Information, Approval of the Transfers and Exchanges of Conserved Coachella Canal Water, Construction, Operation and Funding, Riverside and Imperial Counties, CA.

Summary: EPA recognized the commitment to mitigation for biological resources, cumulative impacts, safety, and large mammals. We recommended the ROD include additional information on consultation with tribal governments on cultural resources and local socioeconomic effects from loss of canal seepage water.

ERP No. FS-COE-K36083-CAGuadalupe River Flood Control and Adjacent Streams Investigation, Proposed Modifications to the Guadalupe River Project, Downtown San Jose, Santa Clara County, CA.

Summary: EPA found the FGRER/FSEIS adequately addresses most of the issues raised in our comment letter on the DSEIS. We reiterated our support for additional measures to control mercury impacts through sediment control traps and mitigation measures which would remove “hard” engineered flood control structures in other parts of the basin. EPA expressed continued concern with the use of invert stabilization mechanisms.

Dated: June 4, 2001.
Joseph C. Montgomery,
Director, NEPA Compliance Division, Office of Federal Activities.

[FR Doc. 01-14513 Filed 6-7-01; 8:45 am]

BILLING CODE 6560-50-P